TENNESSEE VALLEY AUTHORITY

Meeting of the Regional Resource Stewardship Council and the Regional Energy Resource Council

AGENCY: Tennessee Valley Authority (TVA).

ACTION: Notice of Federal advisory committee meeting.

SUMMARY: The TVA Regional Resource Stewardship Council (RRSC) and Regional Energy Resource Council (RERC) will hold a combined meeting of both councils on January 18, 2024, to seek advice on the Valley Pathways Study, a study led by both TVA and the University of Tennessee Baker Center for Public Policy to develop a roadmap for Net Zero greenhouse gas (GHG) emission economy by 2050.

DATES: The meeting will be held in Knoxville, Tennessee, at the Downtown Knoxville Marriott on Thursday, January 18, 2024, from 8:30 a.m. to 4 p.m. E.T. RRSC and RERC council members are invited to attend the meeting in person. The public is invited to view the meeting virtually or to attend in-person. There will be a 1-hour public listening session at 1:30 E.T. Those wishing to speak virtually must email Bekim Haliti at bhaliti@tva.gov by 5 p.m. on Tuesday, January 16. Written comments are invited and can be sent by email to Bekim Haliti at bhaliti@tva.gov. A link and instructions to view the meeting will be posted on TVA's RRSC website at www.tva.com/rrsc and TVA's RERC website at www.tva.com/rerc prior to the scheduled meeting.

ADDRESSES: The public is invited to view the meeting virtually or attend in person. The in-person meeting will be held at the Downtown Knoxville Marriott at 525 Henley St. Knoxville, TN 37902. There will be a 1-hour Public Listening Session from 1:30 to 2:30. Persons who wish to speak virtually during the public listening session must pre-register by 5 p.m. E.T. Tuesday, January 16, by emailing bhaliti@tva.gov. Anyone needing special accommodations should let the contact below know at least one week in advance.

FOR FURTHER INFORMATION CONTACT: Bekim Haliti, bhaliti@tva.gov, 931-349-1894.

SUPPLEMENTARY INFORMATION: The RERC was established to advise TVA on its energy resource activities and the priorities among competing objectives and values. The RRSC was established to advise TVA on its natural resource and stewardship activities, and the priorities among competing objectives and values. The RRSC and RERC are discretionary advisory committees established under the authority of the Tennessee Valley Authority (TVA) in accordance with the provisions of the Federal Advisory Committee Act (FACA), as amended, 5 U.S.C. 10.

The meeting agenda includes the following:

January 18

1. Welcome and Introductions

2. TVA Leadership Update

3. Valley Pathways Study presentation

4. Review and discuss Advice Questions

5. Public Listening Session

6. Finalize Advice Statements

The DFO of the Tennessee Valley Authority and Vice President of External Strategy and Regulatory Oversight, Melanie Farrell, having review and approved this document, is delegating the authority to sign this document to Bekim Haliti, Specialist of Valley Alliances for publication in the Federal Register.

Dated: December 18, 2023.
Bekim Haliti,
Specialist, Valley Alliances, Tennessee Valley Authority.

[FR Doc. 2023-28534 Filed 12-26-23; 8:45 am]

BILLING CODE 8120-08-P